DEPARTMENT OF AGRICULTURE

Food Safety and Inspection Service

[Docket No. 03-003N]

Codex Alimentarius Commission: 4th Session of the Codex Ad Hoc Intergovernmental Task Force on Foods Derived From Biotechnology

AGENCY: Food Safety and Inspection Service, USDA.

ACTION: Notice of public meeting, request for comments.

SUMMARY: The Office of the Under Secretary for Food Safety, United States Department of Agriculture (USDA), and the Food and Drug Administration (FDA) are sponsoring a public meeting on February 20, 2003, to provide information and receive public comments on agenda items that will be discussed at the 4th Session of the Codex Ad Hoc Intergovernmental Task Force on Foods Derived from Biotechnology (FBT) to be held in Yokohama, Japan, on March 11-14, 2003. The Under Secretary and FDA recognize the importance of providing interested parties the opportunity to obtain background information on the 4th Session of the Codex Ad Hoc Intergovernmental Task Force on Foods Derived from Biotechnology and to address items on the Agenda for the 4th FBT.

DATES: The public meeting is scheduled for Thursday, February 20, 2003 from 2 p.m. to 4 p.m.

ADDRESSES: The public meeting will be held in the Lincoln Room, White House Conference Center, 726 Jackson Place, NW., Washington, DC. To receive copies of the documents referenced in the notice contact the FSIS Docket Clerk, U.S. Department of Agriculture, Food Safety and Inspection Service, Room 102, Cotton Annex, 300 12th Street, SW., Washington, DC 20250-3700. The documents will also be accessible via the World Wide Web at http://www.codexalimentarius.net/ccfbt4/bt03_01e.htm. If you have comments, please send an original and two copies to the FSIS Docket Clerk and reference Docket #03-003N. All comments submitted will be available for public inspection in the Docket Clerk's Office between 8:30 a.m. and 4:30 p.m., Monday through Friday.

FOR FURTHER INFORMATION CONTACT: F. Edward Scarbrough, Ph.D., U.S. Manager for Codex, U.S. Codex Office, Food Safety and Inspection Service, Room 4861, South Building, 1400 Independence Avenue SW., Washington, DC 20250, Phone: (202) 205-7760, Fax: (202) 720-3157.

SUPPLEMENTARY INFORMATION:

Background

Codex was established in 1962 by two United Nations organizations, the Food and Agriculture Organization (FAO) and the World Health Organization (WHO). Codex is the major international organization for protecting the health and economic interests of consumers and encouraging fair international trade in food. Through adoption of food standards, codes of practice, and other guidelines developed by its committees, and by promoting their adoption and implementation by governments, Codex seeks to ensure that the world's food supply is sound, wholesome, free from adulteration, and correctly labeled. In the United States, USDA, FDA, and the Environmental Protection Agency (EPA) manage and carry out U.S. Codex activities.

The Codex Ad Hoc Intergovernmental Task Force on Foods Derived from Biotechnology was established to develop standards, guidelines or recommendations, as appropriate, for foods derived from biotechnology or traits introduced into foods by biotechnology, on the basis of scientific evidence, risk analysis and having regard, where appropriate to other legitimate factors relevant to the health of consumers and the promotion of fair trade practices. The Task Force, which was given four years to complete its work, held its first session in 2000.

Issues To Be Discussed at the Public Meeting

The provisional agenda items will be discussed during the public meeting:

1. Adoption of the Agenda (CX/FBT 03/1).

2. Matters Referred to the Task Force by Other Codex Committees (CX/FTB 03/2).

3. Matters of Interest from Other International Organizations with respect to the Evaluation of the Safety and Nutrition Aspects of Foods Derived from Biotechnology (CX/FBT 03/3).

4. Consideration of Draft Guideline for the Conduct of Food Safety Assessment of Foods Produced Using Recombinant-DNA Microorganisms (CL 2002/40-FBT, ALINORM 03/34, Appendix V).

5. Open Discussion on Traceability.

Public Meeting

At the February 20th public meeting, the agenda items will be described, discussed, and attendees will have the opportunity to pose questions and offer comments. Comments may be sent to the FSIS Docket Room (see ADDRESSES). Written comments should state that they relate to activities of the 4th Session of the Codex Ad Hoc Intergovernmental Task Force on Foods Derived from Biotechnology, Docket #03-003N.

Additional Public Notification

Public awareness of all segments of rulemaking and policy development is important. Consequently, in an effort to better ensure that minorities, women, and persons with disabilities are aware of this notice, FSIS will announce it and make copies of this Federal Register publication available through the FSIS Constituent Update. FSIS provides a weekly Constituent Update, which is communicated via Listserv, a free e-mail subscription service. In addition, the update is available on-line through the FSIS Web page located at http://www.fsis.usda.gov. The update is used to provide information regarding FSIS policies, procedures, regulations, Federal Register notices, FSIS public meetings, recalls, and any other types of information that could affect or would be of interest to our constituents/stakeholders. The constituent Listserv consists of industry, trade, and farm groups, consumer interest groups, allied health professionals, scientific professionals, and other individuals that have requested to be included. Through the Listserv and Web page, FSIS is able to provide information to a much broader, more diverse audience.

For more information, contact the Congressional and Public Affairs Office, at (202) 720-9113. To be added to the free e-mail subscription service (Listserv) go to the “Constituent Update” page on the FSIS Web site at http://www.fsis.usda.gov/oa/update/update.htm. Click on the “Subscribe to the Constituent Update Listserv” link, then fill out and submit the form.

F. Edward Scarbrough,
U.S. Manager for Codex Alimentarius.

[FR Doc. 03-2307 Filed 1-30-03; 8:45 am]

BILLING CODE 3410-DM-P